FEDERAL COMMUNICATIONS COMMISSION

Sunshine Act Meeting; Open Commission Meeting; April 21, 2010

Date: April 14, 2010.

The Federal Communications Commission will hold an Open Meeting on the subjects listed below on Wednesday, April 21, 2010, which is scheduled to commence at 10:30 a.m. in Room TW-C305, at 445 12th Street, S.W., Washington, D.C.

In accordance with the purpose of the Sunshine period, comments submitted on blog pages in broadband.gov during the Sunshine period will not be considered by the Commission in finalizing the items under consideration at the open meeting on April 21.

ITEM NO. | BUREAU | SUBJECT
1 | WIRELINE COMPETITION | TITLE: Connect America Fund; A National Broadband Plan for Our Future (GN Docket No 09-51); and High-Cost Universal Service Support (WC Docket No. 05-337) SUMMARY: The Commission will consider a Notice of Inquiry and Notice of Proposed Rulemaking initiating universal service reforms as outlined in the National Broadband Plan and Joint Statement on Broadband.
2 | WIRELESS TELE-COMMUNICATIONS | TITLE: Reexamination of Roaming Obligations of Commercial Mobile Radio Service Providers and Other Providers of Mobile Data Services (WT Docket No. 05-265) SUMMARY: The Commission will consider an Order on Reconsideration regarding automatic voice roaming requirements and a Second Further Notice of Proposed Rulemaking regarding automatic roaming for mobile data services.
3 | MEDIA | TITLE: Video Device Competition; Implementation of Section 304 of the Telecommunications Act of 1996: Commercial Availability of Navigation Devices (CS Docket No. 97-80); and Compatibility Between Cable Systems and Consumer Electronics Equipment (PP Docket No. 00-67) SUMMARY: The Commission will consider a Notice of Inquiry seeking comment on best approaches to assure the commercial availability of smart video devices and other equipment used to access the services of multichannel video programming distributors.
4 | MEDIA | TITLE: Implementation of Section 304 of the Telecommunications Act of 1996: Commercial Availability of Navigation Devices(CS Docket No. 97-80); and Compatibility Between Cable Systems and Consumer Electronics Equipment (PP Docket No. 00-67) SUMMARY: The Commission will consider a Fourth Further Notice of Proposed Rulemaking that proposes changes to the CableCARD rules for set-top boxes used with cable services, to improve the operation of that framework pending the development of a successor framework.
5 | PUBLIC SAFETY & HOMELAND SECURITY | TITLE: Effects on Broadband Communications Networks Of Damage to or Failure of Network Equipment Or Severe Overload SUMMARY: The Commission will consider a Notice of Inquiry that examines the survivability of broadband infrastructure and seeks comment on the ability of existing broadband networks to withstand significant damage or severe overloads as result of natural disasters, terrorist attacks, pandemics or other major public emergencies.
6 | PUBLIC SAFETY & HOMELAND SECURITY | TITLE: Cyber Security Certification Program SUMMARY: The Commission will consider a Notice of Inquiry on whether to establish a voluntary cyber security certification program.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an e-mail to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC Live web page at www.fcc.gov/live.

For a fee this meeting can be viewed live over George Mason University's Capitol Connection. The Capitol Connection also will carry the meeting live via the Internet. To purchase these services call (703) 993-3100 or go to www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
Marlene H. Dortch,
Secretary, Office of the Secretary, Office of Managing Director.

[FR Doc. 2010-9097 Filed 4-15-10; 8:45 am]

BILLING CODE 6712-01-S